SECURITIES AND EXCHANGE COMMISSION

[Release No. 34-83456; File No. SR-LCH SA-2018-003]

Self-Regulatory Organizations; LCH SA; Notice of Filing of Proposed Rule Change Relating to Liquidity Risk Management

June 18, 2018.

Correction

In notice document 2018-13378 beginning on page 29146 in the issue of Friday, June 22, 2018, make the following change:

On page 29148, in the second column, in line 43, “July 12, 2018” should read “July 13, 2018”.

[FR Doc. C1-2018-13378 Filed 7-12-18; 8:45 am]

BILLING CODE 1301-00-D